DEPARTMENT OF HEALTH AND HUMAN SERVICES

Administration for Children and Families

Head Start Hispanic Latino Service Partnership Institutions

Federal Agency Name: Administration for Children and Families, Administration on Children, Youth and Families, Head Start.

Funding Opportunity Title: Head Start Hispanic Latino Service Partnership Institutions.

Announcement Type: Competitive Grant-Initial.

Funding Opportunity Number: HHS-2004-ACF-HS-YP-0003.

CFDA Number: 93.600.

DATES: Applications are due May 13, 2004. Letters of intent are due April 15, 2004.

I. Funding Opportunity Description

The Head Start Bureau is announcing the availability of funds and request for applications for professional development and training grants for institutions of higher education with experience and capability in educating and preparing professionals to work effectively with Hispanic/Latino young children and families, in partnership with Head Start, Migrant Head Start and Early Head Start programs. The Head Start—Higher Education Hispanic/Latino Service Institution Partnership (HS-HEHLSIPs) program is funded to improve the quality and long-term effectiveness of program services to Hispanic/Latino children and their families by developing academic and other training models and forming partnerships between institutions of higher education and Head Start, Migrant Head Start, and Early Head Start programs. In addition, the institutions of higher education that will be funded under this announcement, together with those HS-HEHLSIPs currently funded under this initiative, will form a consortium to share methods, approaches, experiences, and lessons learned.

A. Purpose

Through this announcement, the Administration on Children, Youth and Families (ACYF) is making available up to $1,500,000 annually for each of five years to support Head Start—Higher Education Hispanic/Latino Service Institution Partnerships (HS-HEHLSIPs). These partnerships are designed to improve the quality and long-term effectiveness of Head Start, Migrant Head Start and Early Head Start grantees by developing academic and other training models to increase the number of Head Start teachers with degrees in early childhood education.

B. Background

The overall goal of Head Start is to ensure that children of low-income families acquire the skills and knowledge necessary to allow them to enter school ready for success. In order to accomplish this goal, Head Start provides comprehensive services to these children and their families. Head Start enhances children's physical, cognitive, social, and emotional development. It supports parents in their efforts to fulfill their parental roles as their child's primary educator, helps support them while they work towards employment and self-sufficiency, and provides for their involvement in administering the Head Start program.

In an attempt to ensure that highly qualified and well trained staff provides high quality services to enrolled children and their families, Head Start has supported many demonstration projects. For example, Head Start supported the creation of the Child Development Associate (CDA) credential designed for early childhood development teaching staff, implemented the Head Start Teaching Centers, and developed other innovative projects. The Head Start Bureau also implemented partnerships with Historically Black Colleges and Universities (HBCUs) and Tribally-Controlled Land Grant Colleges and Universities (TCUs) in addition to other innovative training and staff development projects.

The 1998 reauthorization of the Head Start Act contains provisions to improve Head Start program quality and accountability. These include new education performance standards and measures, the expansion of program monitoring to incorporate evidence of progress on outcomes-based measures, funding to upgrade program quality and staff compensation, and higher education standards for Head Start teachers. In January 2001, the President signed into law the “No Child Left Behind Act” to make the education of every child in America one of the country's top priorities. The Act seeks to ensure that public schools teach children what they need to know to be successful in life and that they also set high education standards in the classroom. In his 2002 State of the Union address, the President indicated the need to prepare our children to read and succeed in school, including the improvement of Head Start and early childhood development programs. In response to these goals, the White House has developed an early childhood initiative, which is built on raising the bar for Head Start education methods to create a better learning environment and improved outcomes for children. In his announcement of the Good Start, Grow Smart Early Childhood Initiative in April 2002, the President identified children's early literacy as a key focus for Head Start program improvement. In this initiative, the President presented three areas of focus for Head Start: (1) Strengthening Head Start programs; (2) partnering with states to improve early childhood education, and (3) providing information to teachers, caregivers, and parents.

The Head Start Act, as amended 42 U.S.C. 9801 et seq. is the authorizing legislation for the HS-HEHLSIPS program. The key purpose in funding the program is to increase the number of Head Start staff with college degrees in early childhood education. To assure that selected colleges and universities will be able to fulfill this task it is important that HS-HEHLSIPs applying for funds under this announcement clearly demonstrate that they have established relationships with the Head Start programs in their community and that these Head Start programs have indicated that they are willing to work collaboratively with the institution.

II. Award Information

Funding Instrument Type: Grant.

Anticipated total Priority Area Funding: $1,500,000.

Anticipated Number of Awards: 10 per budget period.

Ceiling on amount of Individual Awards: $150,000 per budget period.

Floor on Individual Award Amounts: none.

Average projected Award Amount: $100,000 per budget period.

Project Periods for Awards: Up to 60 months with 12 month budget periods.

Awards will be made on a competitive basis and will be for a one-year budget period. The total project period will not exceed 60 months. Applications for continuation grants funded under these awards beyond the first 12 month budget period (but within the project period) will be considered on a noncompetitive basis subject to the availability of funds, satisfactory progress of the grantee, and a determination that continued funding is in the best interest of the Government.

III. Eligibility Information

1. Eligible Applicants

State Controlled Institutions of Higher Education, Private Institutions of Higher Education, and faith-based institutions of Higher Education.

Additional Information on Eligibility

This announcement is limited to institutions of higher education with experience and capability in educating and preparing professionals to work effectively with Hispanic/Latino young children and families. Faith-based institutions planning to compete under this announcement must also meet the same eligibility criteria as other applicants.

HEHLSIPs that are not accredited are not eligible to apply under this announcement. Applications from HEHLSIPs that are not accredited will be considered non-responsive and returned without review.

HEHLSIPs that are currently funded under the Head Start Partnership with HEHLSIPs and whose funding will end after October 31, 2004 are not eligible to apply under this announcement.

HEHLSIPs that fail to provide a Head Start program participation agreement as specified in Section IV. Content and Form of Application Submission will be considered non-responsive and will not be eligible for funding under this announcement.

Applicants are cautioned that the ceiling for individual awards is $150,000. Applications exceeding the $150,000 threshold will be considered non-responsive and will not be eligible for funding under this announcement.

2. Cost Sharing or Matching—No.

3. Other (if applicable)

On June 27, 2003, the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (www.Grants.gov). A DUNS number will be required for every application for a new award or renewal/continuation of an award, including applications or plans under formula, entitlement and block grant programs, submitted on or after October 1, 2003.

Please ensure that your organization has a DUNS number. You may acquire a DUNS number at no cost by calling the dedicated toll-free DUNS number request line on 1-866-705-5711 or you may request a number on-line at http://www.dnb.com.

Applicants are cautioned that the ceiling for individual awards is $150,000. Applications exceeding the $150,000 threshold will be considered non-responsive and will not be eligible for funding under this announcement.

Applications from applicants that do not meet the accreditation requirements specified in Section III.1 will be considered non-responsive and returned without review.

IV. Application and Submission Information

1. Address to Request Application Package

ACYF Operations Center, c/o The Dixon Group, Inc., Higher Education Hispanic/Latino Service Institutions Partnerships (HS-HEHLSIPs), 18 Q Street, NE., Washington, DC 20002, Telephone: (800) 351-2293, E-mail: HS@dixongroup.com.

An application kit including copies of the program announcement, necessary application forms and appendices can be obtained by contacting the above address, and/or visiting the ACYF Web site at: www.acf.hhs.gov/programs/hsb/grant/fundingopportunities/fundopport.htm.

2. Content and Form of Application Submission

Submission of Intent

Prior to submittal of the application, applicants must submit a post card or call the ACYF Operations Center c/o The Dixon Group with the following information: the name, address, telephone and fax numbers, and e-mail address of the college/university intending to apply to receive Head Start Higher Education Hispanic/Latino Service Institutions Partnerships funds. Please see Section III.1 for ACYF Operations Center address and telephone contact information.

Proof of HEHLSIP Accreditation Status

Applicants must submit proof of accreditation by an accreditation agency recognized by the Secretary of the Department of Education.

Head Start Program Participation Agreement

Applicants must submit a letter of agreement with their applications from a Head Start Program Director verifying that the applicant has an established relationship with the program and that the Head Start program is willing to work with the HBCU.

You may submit your application to us either in electronic or paper format. To submit an application electronically, please use the www.Grants.gov apply site. If you use Grants.Gov you will be able to download a copy of the application package, complete it off-line, and then upload and submit the application via the Grants.gov site. You may not e-mail an electronic copy of a grant application to us.

Please note the following if you plan to submit your application electronically via Grants.Gov.

• Electronic submission is voluntary.

• When you enter the Grants.Gov site, you will find information about submitting an application electronically through the site, as well as the hours of operation. We strongly recommend that you do not wait until the application deadline date to begin the application process through Grants.Gov.

• To use Grants.gov, you, as the applicant, must have a DUNS Number and register in the Central Contractor Registry (CCR). You should allow a minimum of five days to complete the CCR registration.

• You will not receive additional point value because you submit a grant application in paper format.

• You may submit all documents electronically, including all information typically included on the SF424 and all necessary assurances and certifications.

• Your application must comply with any page limitation requirements described in this program announcement.

• After you electronically submit your application, you will receive an automatic acknowledgement from Grants.Gov that contains a Grants.Gov tracking number. The Administration for Children and Families will retrieve your application form Grants. Gov.

• We may request that you provide original signatures on forms at a later date.

• You may access the electronic application for this program on www.Grants.gov. You must search for the downloadable application package by the CFDA number.

Application Requirements

The project description of the application should be double-spaced and single-sided on 8½″ x 11″ plain white paper, with 1” margins on all sides. Use only a standard size font no smaller than 12 pitch throughout the application. All narrative sections of the application (including appendices, resumes, charts, references/footnotes, tables, maps and exhibits) must be sequentially numbered, beginning on the first page after the budget justification, the principal investigator contact information and the Table of Contents.

The length of the application, including the projection description, appendices and resumes must not exceed 75 pages. Anything over 75 pages will be removed and not considered by the reviewers. The abstract should not be counted in the 75 pages and not exceed 1 page.

Applicants are requested NOT to send pamphlets, brochures, or other printed material along with their applications. These materials, if submitted, will not be included in the review process. In addition, applicants must NOT submit any additional letters of endorsement beyond any that stated as required in this announcement.

Project Descriptions

Specific factual information and statements of measurable goals in quantitative terms must be included in the project description. Extensive exhibits are not required. Supporting information concerning activities that will not be directly funded by the grant or information that does not directly pertain to an integral part of the grant-funded activity should be placed in an appendix. Please see section V for further information regarding the Project Description.

Table of Contents

All pages must be numbered and a table of contents should be included for easy reference.

Forms and Certifications: The project description should include all the information requirements described in the specific evaluation criteria outlined in the program announcement under Part V. In addition to the project description, the applicant needs to complete all the standard forms required for making applications for awards under this announcement. Applicants requesting financial assistance for non-construction projects must file the Standard Form 424B, “Assurances: Non-Construction Programs.” Applicants must sign and return the Standard Form 424B with their applications. Applicants must provide a certification regarding lobbying when applying for an award in excess of $100,000. Applicants must sign and return the certification with their applications. Applicants must disclose lobbying activities on the Standard Form LLL when applying for an award in excess of $100,000. Applicants who have used non-Federal funds for lobbying activities in connection with receiving assistance under this announcement shall complete a disclosure form, if applicable, with their applications. The forms (Forms 424, 424A-B; and Certifications may be found at: www.acf.hhs.gov/programs/ofs/forms.htm under new announcements. Fill out Standard Forms 424 and 424A and the associated certifications and assurances based on the instructions on the forms.

3. Submission Dates and Times

The closing time and date for receipt of applications is 4:30 p.m. (Eastern Time Zone) on May 13, 2004. Mailed or hand carried applications received after 4:30 p.m. on the closing date will be classified as late.

Deadline: Mailed applications shall be considered as meeting an announced deadline if they are received on or before the deadline time and date at the following address: ACYF Operations Center, c/o The Dixon Group, Inc., Higher Education Hispanic/Latino Service Institutions Partnerships (HS-HEHLSIPs), 118 Q Street, NE., Washington, DC 20002, Attn: Delores Dickenson, Telephone: (800) 351-2293.

Applicants are responsible for mailing applications well in advance, when using all mail services, to ensure that the applications are received on or before the deadline time and date.

Applications hand carried by applicants, applicant couriers, other representatives of the applicant, or by overnight/express mail couriers shall be considered as meeting an announced deadline if they are received on or before the deadline date, between the hours of 8 a.m. and 4:30 p.m., EST, at the following address: ACYF Operations Center, c/o The Dixon Group, Inc., Higher Education Hispanic/Latino Service Institutions Partnerships (HS-HEHLSIPs), 118 Q Street, NE., Washington, DC 20002, Attn: Delores Dickenson, Telephone: (800) 351-2293.

Late applications: Applications which do not meet the criteria above are considered late applications. ACF shall notify each late applicant that its application will not be considered in the current competition.

Extension of deadlines: ACF may extend application deadlines when circumstances such as acts of God (floods, hurricanes, etc.) occur, or when there are widespread disruptions of mails service. Determinations to extend or waive deadline requirements rest with the Chief Grants Management Officer.

Required Forms:

What to submit | Required content | Required form or format | When to submit
Cover letter | Self explanatory | Self explanatory | By application due date.
Table of Contents | Per description in announcement | Described in Section IV | By application due date.
SF 424, including Sections A and B | Per required form | May be found at http://www.acf.hhs.gov/programs/ofs/forms.htm | By application due date.
Dun and Bradstreet Data Universal Numbering System (DUNS) Number | Per description in announcement | Described in Section III | By application due date.
Abstract | Per description in announcement | Described in Section V | By application due date.
Project Description | Per description in announcement | Described in Section IV and V | By application due date.
Certification regarding Lobbying and associated Disclosure of Lobbying Activities (SF LLL) | Per required form | May be found at http://www.acf.hhs.gov/programs/ofs/forms.htm | By application due date.
Environmental Tobacco Smoke Certification | Requirement met by signing and submitting application | May be found at http://www.acf.hhs.gov/programs/ofs/forms.htm | By application due date.
Notice to State Single Point of Contact (SPOC), as required | Per description in announcement | Described in Section IV | By application due date
Proof of HEHLSIP accreditation status | Per description in announcement | Described in Section III and IV | By application due date.
Head Start program(s) participation agreement | Letter of agreement from Head Start Director | Described in Section IV | By application due date.

4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. As of October 1, 2003, the following jurisdictions have elected not to participate in the Executive Order process. Applicants from these jurisdictions or for projects administered by federally-recognized Indian Tribes need take no action in regard to E.O. 12372:

All States and Territories except Alabama, Alaska, Arizona, Colorado, Connecticut, Hawaii, Idaho, Indiana, Kansas, Louisiana, Minnesota, Montana, Nebraska, New Jersey, Ohio, Oklahoma, Oregon, Pennsylvania, South Dakota, Tennessee, Vermont, and Virginia. Applicants from these jurisdictions need not take action.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

When comments are submitted directly to ACF, they should be addressed to: Department of Health and Human Services, Administration for Children and Families, Division of Discretionary Grants, 370 L'Enfant Promenade, SW. Washington, DC 20447.

A list of the Single Points of Contact for each State and Territory is included with the application materials for this announcement.

5. Funding Restrictions

HEHLSIPs that are currently funded under the Head Start Partnership with HEHLSIPs and whose funding will end after October 31, 2004 are not eligible to apply under this announcement.

Applicants are cautioned that the ceiling for individual awards is $150,000. Applications exceeding the $150,000 threshold will be considered non-responsive and will not be eligible for funding under this announcement.

6. Other Submission Requirements

Submission by Mail: An Applicant must provide an original application with all attachments, signed by an authorized representative and two copies. The Application must be received at the address below by 5 p.m. Eastern Standard Time on or before the closing date. Applications should be mailed to: ACYF Operations Center, c/o The Dixon Group, Inc., Higher Education Hispanic/Latino Service Institutions Partnerships (HS-HEHLSIPs), 118 Q Street, NE., Washington, DC 20002, Attn: Delores Dickenson, Telephone: (800) 351-2293.

Hand Delivery: An Applicant must provide an original application with all attachments signed by an authorized representative and two copies. The application must be received at the address below by 4:30 p.m. Eastern Standard Time on or before the closing date. Applications that are hand delivered will be accepted between the hours of 8 a.m. to 4:30 p.m., Monday through Friday. Applications may be delivered to: ACYF Operations Center c/o The Dixon Group, 118 Q Street, NE., Washington, DC 20002, Attn: Delores Dickenson, Telephone: (800) 351-2293.

Electronic Submission: Please see section IV. 2 Content and Form of Application Submission, for guidelines and requirements when submitting applications electronically.

V. Application Review Information

1. Criteria

General Instructions for the Uniform Project Description

The following are instructions and guidelines on how to prepare the “project summary/abstract” and “Full Project Description” sections of the application. Under the evaluation criteria section, note that each criterion is preceded by the generic evaluation requirement under the ACF Uniform Project Description (UPD). Public Reporting for this collection of information is estimated to average 25 hours per response, including the time for reviewing instructions, gathering and maintaining the data needed, and reviewing the collection information.

The project description is approved under OMB Control Number 0970-0139 which expires 3/31/2004.

An agency may nor conduct or sponsor, and a person is not required to respond to, a collection of information unless it displays a currently valid OMB control number. Applicants have the option of omitting from the application copies (not the original) specific salary rates or amounts for individuals specified in the application budget and Social Security Numbers. The copies may include summary salary information.

Project Abstract

Provide a summary of the project description (not to exceed one page) with reference to the funding request.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement. Provide quantitative monthly or quarterly projections of the accomplishments to be achieved for each function or activity in such terms as the number of people to be served and the number of activities accomplished. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.” List organizations, cooperating entities, consultants, or other key individuals who will work on the project along with a short description of the nature of their effort or contribution.

Objectives and Need for Assistance

Clearly identify the physical, economic, social, financial, institutional, and/or other problem(s) requiring a solution. The need for assistance must be demonstrated and the principal and subordinate objectives of the project must be clearly stated. Supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Organizational Profiles

Provide information on the applicant organization(s) and cooperating partners, such as organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission.

Results or Benefits Expected

Identify the results and benefits to be derived. For example, describe how the intermediary's assistance to faith-based and community organizations will increase their effectiveness, enhance their ability to provide social services, diversify their funding sources, and create collaborations to better serve those most in need.

Budget and Budget Justification

Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Criterion 1. Approach: (25 Points)

The extent to which the application describes a detailed plan of action pertaining to the scope of the project including details on how the proposed work will be accomplished, such as detailed timelines and lists of each organization as well as consultant and key individuals who will work on the project. The extent to which the applicant describes a brief yet clear description of the nature of the effort and contribution each organization, consultant, or key individual will make to the project. The extent to which the applicant demonstrates adequate time key staff will devote to the project and that this staff is qualified and knowledgeable of Head Start and Early Head Start. The extent to which the applicant describes a well-vetted approach and methodology for implementing the project, including a clear description that delineates the relationship of each task to the accomplishment of the proposed objectives. The extent to which the applicant provides evidence that the planned approach reflects sufficient input from and partnership with Head Start and Early Head Start grantees.

The extent to which the applicant demonstrates effective planning for activities developed during the start-up period in preparation of implementation of the program including assurance that no more than six months will be devoted to planning activities.

The extent to which the applicant demonstrates effective methods for recruiting Head Start center-based teaching staff and an effective selection process for participation in the program.

The extent to which the applicant demonstrates how training and coursework will be contextually and culturally relevant to the Head Start, Migrant Head Start, and Early Head Start environment and how it will contribute to enhancing the effectiveness of teachers, program quality, and outcomes for Head Start children and families.

The extent to which the application describes efforts the applicant and Head Start partners will make to ensure that training and coursework are accessible to Head Start staff and how the applicant will support their successful completion of courses, training, and degrees. The extent to which the applicant provides discussion of relevant issues such as timing, scheduling, and location of classes or training, support to enhance the literacy and study skills of participants, and approaches to integrate training in the working environment of the Head Start program. The extent to which the applicant describes costs (if any) associated with training and courses for Head Start staff.

The extent to which the applicant describes strong efforts to complement the Federal funds requested in this proposal with other sources to maximize the benefits to Head Start and Early Head Start grantees including efforts or plans to assist Head Start/Early Head Start staff in accessing sources of financial assistance or to make use of other funding for training and career development of early childhood program staff.

The extent to which the applicant describes credit courses offered particularly in the area of Early Childhood Development/Education.

The extent to which the applicant describes how CDA training and certification of Head Start and Early Head Start staff, as appropriate, as well as previous coursework and credits will be linked to academic credits and course sequences leading to AA/BA degrees including estimates indicating how many Head Start and Early Head Start staff members will be included in this effort.

The extent to which the applicant presents an organizational structure that will support the project objectives. The extent to which the applicant demonstrates how joint planning and assessment with the Head Start, Migrant Head Start, and Early Head Start grantees will be effectively implemented with timelines and clear lines of responsibility. The extent to which the applicant explains how staff positions will be assigned and describes their major functions and responsibilities.

The extent to which the applicant describes appropriate activities that will continue after the completion of this project that will ensure that the applicant will continue to participate in providing educational opportunities for Head Start, Migrant Head Start, and Early Head Start classroom staff.

Criterion 2. Results or Benefits Expected: (25 Points)

The results and benefits to be derived. The anticipated contribution to policy, practice, theory and research. Specific benefits for both the applicant and the Head Start/Migrant Head Start/Early Head Start community.

Based on the stated program objectives, the results and benefits to be derived. The specific results or benefits that could be expected for the Head Start/Migrant Head Start/Early Head Start grantees and the institution.

The qualitative and quantitative data the program will collect to measure progress towards the stated results or benefits. How the program will determine the extent to which it has achieved its stated objectives.

The extent to which the applicant provides an accurate projection of the estimated number of Head Start/Migrant Head Start/Early Head Start teachers that will earn degrees over the duration of the project based on an analysis of the current levels of credits/courses earned by participants and a proposed sequence of courses.

The extent to which the applicant proposes new teaching methods for Head Start/Migrant Head Start/Early Head Start teachers and staff for teaching early literacy in the classrooms and enhancing parental skills to encourage children to read and succeed in school.

Criterion 3. Objectives and Need for Assistance: (20 Points)

Relevant physical, economic, social, financial, institutional or other problems requiring intervention. The need for assistance. The principal and subordinate objectives of the project. The supporting documentation provided or other testimonies from concerned interests other than the applicant.

The objectives for the program. How these objectives are based on an assessment of community needs and how they relate to Head Start goals. The extent to which the applicant proposes a detailed process that will be used to assess the need for the proposed program including the total number of staff needing training, including preschool and infant/toddler teachers.

Specifically identified population to be served. The extent to which the applicant describes proposed Head Start, Migrant Head Start, and Early Head Start grantees as participating partners. The extent to which the applicant provides the numbers and types of staff to be trained, and the proposed areas of training, courses, and degrees to be awarded, as appropriate.

The consultative process related to the development of the proposed initiative. The extent to which the applicant describes detailed efforts to frame the proposed initiative within broader state or community efforts to enhance professional and career development for staff in all forms of early childhood and child care programs. The extent to which the applicant provides letters of support that document consultation and support from the proposed grantee or delegate agency partners, the Head Start State Collaboration Office, and any existing state level early childhood career development initiative.

Criterion 4. Budget and Budget Justification: (20 Points)

How the proposed project costs are reasonable and appropriate in view of the activities to be carried out and the anticipated outcomes. The extent to which the applicant describes a thorough line item budget for the costs associated with key project staff attending two ACF-sponsored conferences in Washington, DC.

Criterion 5. Geographic Location: (5 Points)

The extent to which the application describes the precise location of the project and area to be served, including the location of the Head Start, Migrant Head Start, and Early Head Start grantees the applicant partners with.

Criterion 6. Staff and Position Data: (5 Points)

The extent to which the applicant demonstrates that key staff are qualified and knowledgeable of Head Start, Migrant Head Start, and Early Head Start. The extent to which the applicant demonstrates the capacity of its organization, key leaders, managers, and project personnel to provide: high quality, relevant, and responsive training to Head Start staff; competent project staff to plan and deliver appropriate course material to Head Start trainees that is culturally relevant; implementation of the training grant in an effective and timely manner; and successful partnerships that involve sharing resources, staffing, and facilities.

2. Review and Selection Process

Applications received by the due date will be reviewed and scored competitively. Experts in the field, generally persons from outside the Federal government, will use the evaluation criteria listed in Section V of this announcement as well as the eligibility criteria specified in Section III to review and score the applications. The results of this review will be a primary factor in making funding decisions.

VI. Award Administration Information

1. Award Notices

The successful applicants will be notified through the issuance of a Financial Assistance Award document which sets forth the amount of funds granted, the terms and conditions of the grant, the effective date of the grant, the budget period for which initial support will be given, the non-Federal share to be provided, and the total project period for which support is contemplated. The Financial Assistance Award will be signed by the Grants Officer and transmitted via postal mail.

Organizations whose applications will not be funded will be notified in writing by the Head Start Bureau.

2. Administrative and National Policy Requirements

45 CFR Part 74 and 45 CFR Part 92.

3. Reporting

Programmatic Reports: Semi-annually.

Financial Reports: Semi-annually.

Special Reporting Requirements: None.

All grantees are required to submit semi-annual program reports; grantees are also required to submit semi-annual expenditure reports using the required financial standard form (SF-269) which is located on the Internet at: http://forms.psc.gov/forms/sf/SF-269.pdf. A suggested format for the program report will be sent to all grantees after the awards are made.

VII. Agency Contacts

Program Office Contact:Katherine Gray, U.S. Department of Health and Human Services, Administration for Children and Families, ACYF-Head Start Bureau, Switzer Building—330 C Street, SW., Washington, DC 20447, Telephone : (202) 205-8390, E-mail: kgray@acf.hhs.gov.

Grants Management Office Contact:Delores Dickenson, U.S. Department of Health and Human Services, Administration for Children and Families, ACYF-Head Start Bureau, Switzer Building—330 C Street, SW., Washington, DC 20447, Telephone: (202) 260-7622, E-mail: ddickenson@acf.hhs.gov.

General:ACYF Operations Center, c/o The Dixon Group, Inc., Higher Education Hispanic/Latino Service Institutions Partnerships (HS-HEHLSIPs), 118 Q Street, NE., Washington, DC 20002, Telephone: (800) 351-2293.

VIII. Other Information

Additional information about this program and its purpose can be located on the following Web sites: www.headstartinfo.org and www.hsnrc.org.

Dated: March 23, 2004.
Joan E. Ohl,
Commissioner, Administration on Children, Youth and Families.

[FR Doc. 04-6957 Filed 3-26-04; 8:45 am]

BILLING CODE 4184-01-P